EXECUTIVE OFFICE OF THE PRESIDENT

OFFICE OF NATIONAL DRUG CONTROL POLICY

Appointment of Members of Senior Executive Service Performance Review Board

AGENCY: Office of National Drug Control Policy (ONDCP), Executive Office of the President.

ACTION: Notice of Appointments.

SUMMARY: The following persons have been appointed to the ONDCP Senior Executive Service Performance Review Board: Martha Gagne (as Chair), Michael Gottlieb, James Olson, and Kemp Chester.

FOR FURTHER INFORMATION CONTACT: Michael Passante, Deputy General Counsel, (202) 395-6709, Office of National Drug Control Policy, Executive Office of the President, 750 17th Street NW, Washington, DC 20503.

Dated: August 16, 2018.
Michael Passante,
Deputy General Counsel.

[FR Doc. 2018-18022 Filed 8-20-18; 8:45 am]

BILLING CODE 3280-F5-P